DEPARTMENT OF JUSTICE

Antitrust Division

Notice Pursuant to the National Cooperative Research and Production Act of 1993—Open Mobile Alliance

Notice is hereby given that, on January 18, 2007, pursuant to Section 6(a) of the National Cooperative Research and Production Act of 1993, 15 U.S.C. 4301 et seq. (“the Act”), the Open Mobile Alliance (“OMA”) filed written notification simultaneously with the Attorney General and the Federal Trade Commission disclosing changes in its membership. The notifications were filed for the purpose of extending the Act's provisions limiting the recovery of antitrust plaintiffs to actual damages under specified circumstances. Specifically, 2-800 Mobiles Inc., New York, NY; Ad Vitam, Olivet, FRANCE; Advanced Strategies Corp., Garden City, NY; Along Mobile Technologies, Inc., Xi'an City, Shaanxi Province, PEOPLE'S REPUBLIC OF CHINA; Alox Co., Ltd., Kangnam-gu, Seoul REPUBLIC OF KOREA; Anyka (Guangzhou) Software Technology Co., Ltd., Guangzhou, Guangdong, PEOPLE'S REPUBLIC OF CHINA; ATIO Corporation, Coombe Place, Rivonia, SOUTH AFRICA; CA Inc., Islandia, NY; Calton Hill, Edinburgh, UNITED KINGDOM; Cell Guide, Rehorot, ISRAEL; Ceno Technologies, Ltd., Shanghai, PEOPLE'S REPUBLIC OF CHINA; China Telecommunications Corporation, Beijing, PEOPLE'S REPUBLIC OF CHINA; Cyberlink Corporation, Hsin-Tien City, Taipei Hsien, TAIWAN; Datang Mobile Communication Equipment Co. Ltd., Beijing, PEOPLE'S REPUBLIC OF CHINA; DGIST, Deoksan-Dong, Daegu, REPUBLIC OF KOREA; Digital Connect PTE Ltd., Singapore, SINGAPORE; DKI Technology Inc., Seoul, REPUBLIC OF KOREA; Elcoteq SE, Salo, FINLAND; Estacado Systems, LLC, Dallas, TX; Frost & Sullivan China, Beijing, PEOPLE'S REPUBLIC OF CHINA; GaeaSoft Corporation, Seoul, REPUBLIC OF KOREA; Gemalto N.V., Amsterdam, NETHERLANDS; GMV Soluciones Globales Internet, S.A., Madrid, SPAIN; Hanmaro Co. Ltd., Seoul, REPUBLIC OF KOREA; IfEN GmbH, Poing, GERMANY; Marvell International Ltd., Hamilton, BERMUDA; Miyowa, Marseille, FRANCE; Mobiletop Co., Ltd. Seoul, REPUBLIC OF KOREA; Monotype Imaging Inc., Woburn, MA; MOSSEC—Mobile Security Software, Madrid, SPAIN; Motive, Inc., Austin, TX; Movell Software, Santa Clara, CA; MStar Semiconductor, Inc., Hsinchu Hsien, TAIWAN; NineOne Co., Ltd., Kyongsan, Kyong-Buk, REPUBLIC OF KOREA; NOW Wireless Ltd., Croydon, UNITED KINGDOM; NXP Semiconductors, Eindhoven, NETHERLANDS; Perlego Systems, Inc., Gig Harbor, WA; Pointsec Wireless Solutions, Stockholm, SWEDEN; Protect Software GmbH, Dortmund, GERMANY; Purple Labs S.A., Le Bourget Du Lac, FRANCE; SIRF Technologies, San Joe, CA; Smith Micro Software, Inc., Aliso Viejo, CA; Sonus Networks, Inc., Chelmsford, MA; Square Enix, Inc., El Segundo, CA; Synkia Sp. z.o.o., Krolewska, NORWAY; TechnoCom Corporation, Carlsbad, CA; Telefonica S.A., Madrid, SPAIN; TeleworX Group, Inc., McLean, VA; Trademobile Limited, Wakatipu, New Zealand; Trango Systems, Grenoble, FRANCE; U-blox AG, Thalwil, SWITZERLAND; Unichal Inc., Seoul, REPUBLIC OF KOREA Virtual Logix, Monigny-le-Bretonneux, FRANCE; Visa International Services Association, Foster City, CA; Vodaphone IT Hizmetleri A.S., Istanbul, Turkey; W2bi, Inc., Union, NJ; Webmessenger Inc., Tujunga, Ca; WINIT, Daejeon, REPUBLIC OF KOREA; and WISEWIRES Inc., Seoul, REPUBLIC OF KOREA, have been added as parties to this venture.

Also, Axalto S.A., Meudon Cedex, FRANCE; BDR Customer Management Ltd., Wooburn Green, Buckinghamshire, UNITED KINGDOM; Cognizant Technology Solutions Ltd., London, UNITED KINGDOM; Gemplus S.A., Cedex, La Ciotat, FRANCE; and JRD Communication Inc., Shanghai, PEOPLE'S REPUBLIC OF CHINA, have withdrawn as parties to this venture.

Also, Vantrix Corporation has changed its name to VoiceAge Networks, Montreal, Quebec, CANADA.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 72333).

The last notification was filed with the Department on July 13, 2006. A notice was published in the Federal Register pursuant to Section 6(b) of the Act on August 9, 2006 (71 FR 45580).

Patricia A. Brink,
Deputy Director of Operations, Antitrust Division.

[FR Doc. 07-837 Filed 2-23-07; 8:45 am]

BILLING CODE 4410-11-M